ENVIRONMENTAL PROTECTION AGENCY

[EPA-HQ-OPP-2012-0057; FRL-9337-1]

Notice of Availability of Memorandum of Understanding Between U.S. Environmental Protection Agency and Department of the Interior, Bureau of Land Management

AGENCY: Environmental Protection Agency (EPA).

ACTION: Notice.

SUMMARY: This notice announces the availability of a Memorandum of Understanding (MOU) between the Environmental Protection Agency and the Department of Interior, Bureau of Land Management. The two agencies will work together to support and facilitate reviewing pesticide regulatory activities under the Federal Insecticide, Fungicide, and Rodenticide Act (FIFRA) relevant to risk assessments for the active ingredient formulations—aminopyralid, fluroxpyr, and rimsulfuron, proposed by the Bureau of Land Management, as well as to update risk assessment of two other ingredients.

FOR FURTHER INFORMATION CONTACT: Mario Steadman, Information Technology and Resources Management Division (7502P), Office of Pesticide Programs, Environmental Protection Agency, 1200 Pennsylvania Ave. NW., Washington, DC 20460-0001; telephone number: (703) 305-8338: email address: steadman,mario@epa.gov.

SUPPLEMENTARY INFORMATION:

I. General Information

A. Does this action apply to me?

This action applies to the public in general. As such, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2011-0057. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

The complete text of the MOU can also be viewed in the electronic docket at regulations.gov.

II. Brief Summary of Memorandum of Understanding

Under the MOU the EPA and the BLM will work together to support and facilitate reviewing pesticide regulatory activities under the FIFRA relevant to work on some risk assessments for active ingredient formulations proposed by the BLM. Currently, the BLM is proposing to use three new active ingredients: aminopyralid, fluroxpyr, and rimsulfuron. The BLM is conducting human health and ecological risk assessments to evaluate the risks to humans, and fish and wildlife, from the use of these new active ingredients. In addition, the BLM is proposing to update risk assessments for 2, 4-D and clopyralid.

List of Subjects

Environmental protection, Confidential Business Information, Interagency Agreements, Pesticides and pests, Memorandum of Understanding.

Dated: January 25, 2012.
Michael Hardy,
Acting Director, Information Technology and Resources Management Division, Office of Pesticide Programs.

[FR Doc. 2012-2212 Filed 1-31-12; 8:45 am]

BILLING CODE 6560-50-P